DEPARTMENT OF TRANSPORTATION

Pipeline and Hazardous Materials Safety Administration

[Docket No. PHMSA-2014-0117, Notice No. 14-12]

International Standards on the Transport of Dangerous Goods

AGENCY: Pipeline and Hazardous Materials Safety Administration (PHMSA), DOT.

ACTION: Notice of public meetings.

SUMMARY: This notice is to advise interested persons that on Wednesday, November 12, 2014, PHMSA will conduct a public meeting to discuss proposals in preparation for the 46th session of the United Nations Sub-Committee of Experts on the Transport of Dangerous Goods (UNSCOE TDG) to be held December 1 to December 9, 2014, in Geneva, Switzerland. During this meeting, PHMSA is also soliciting comments relative to potential new work items, which may be considered for inclusion in its international agenda.

Also, on Wednesday, November 12, 2014, the Department of Labor, Occupational Safety and Health Administration (OSHA) will conduct a public meeting (see Docket No. OSHA-H022k-2006-0062) to discuss proposals in preparation for the 28th session of the United Nations Sub-Committee of Experts on the Globally Harmonized System of Classification and Labelling of Chemicals (UNSCEGHS) to be held December 9 to December 11, 2014, in Geneva, Switzerland.

Time and Location: Both meetings will be held at the DOT Headquarters Conference Center, West Building, 1200 New Jersey Avenue SE., Washington, DC 20590.

PHMSA public meeting: 9:00 a.m. to 12:00 noon EST, Conference Room 4.

OSHA public meeting: 1:00 p.m. to 4:00 p.m. EST, Conference Room 4.

Advanced Meeting Registration: The DOT requests that attendees pre-register for these meetings by completing the form at https://www.surveymonkey.com/s/9WWZWR2. Attendees may use the same form to pre-register for both the PHMSA and the OSHA meetings. Failure to pre-register may delay your access to the DOT Headquarters building. If participants are attending in person, arrive early to allow time for security checks necessary to obtain access to the building.

Conference call-in and “live meeting” capability will be provided for both meetings. Specific information on call-in and live meeting access will be posted when available at http://www.phmsa.dot.gov/hazmat/regs/international and at http://www.osha.gov/dsg/hazcom/.

FOR FURTHER INFORMATION CONTACT: Mr. Vincent Babich or Mr. Steven Webb, Office of Hazardous Materials Safety, Department of Transportation, Washington, DC 20590; (202) 366-8553.

Supplementary Information on the PHMSA Meeting: The primary purpose of PHMSA's meeting will be to prepare for the 46th session of the UNSCOE TDG. The 46th session of the UNSCOE TDG is the fourth and final meeting scheduled for the 2013-2014 biennium. The UNSCOE will consider final proposals for the 19th Revised Edition of the United Nations Recommendations on the Transport of Dangerous Goods Model Regulations, which may be implemented into relevant domestic, regional, and international regulations from January 1, 2017. Copies of working documents, informal documents, and the meeting agenda may be obtained from the United Nations Transport Division's Web site at http://www.unece.org/trans/main/dgdb/dgsubc3/c3age.html.

General topics on the agenda for the UNSCOE TDG meeting include:

• Explosives and related matters

• Listing, classification and packing

• Electric storage systems

• Transport of gases

• Miscellaneous pending issues

• Global harmonization of transport of dangerous goods regulations with the Model Regulations

• Guiding principles for the Model Regulations

• Electronic data interchange for documentation purposes

• Cooperation with the International Atomic Energy Agency (IAEA)

• New proposals for amendments to the Model Regulations

• Issues relating to the Globally Harmonized System of Classification and Labeling of Chemicals (GHS)

• Program of work for the 2015-2016 biennium

• Draft resolution of the Economic and Social Council

• Election of Officers for the 2015-2016 biennium

Following the 46th session of the UNSCOE TDG, a copy of the Sub-Committee's report will be available at the United Nations Transport Division's Web site at http://www.unece.org/trans/main/dgdb/dgsubc3/c3rep.html. PHMSA's Web site at http://www.phmsa.dot.gov/hazmat/regs/international provides additional information regarding the UNSCOE TDG and related matters.

Supplementary Information on the OSHA Meeting: The Federal Register notice and additional detailed information relating to OSHA's public meeting will be available upon publication at http://www.regulations.gov (Docket No. OSHA-H022k-2006-0062) and on the OSHA Web site at http://www.osha.gov/dsg/hazcom/.

Signed at Washington, DC, on October 29, 2014.
Magdy El-Sibaie,
Associate Administrator for Hazardous Materials Safety.

[FR Doc. 2014-26184 Filed 11-4-14; 8:45 am]

BILLING CODE 4910-60-P